ENVIRONMENTAL PROTECTION AGENCY

40 CFR Part 70

[KS 189-1189; FRL-7540-8]

Approval and Promulgation of Operating Permits Program; State of Kansas

AGENCY: Environmental Protection Agency (EPA).

ACTION: Proposed rule.

SUMMARY: EPA is proposing approval of revisions to the Kansas Operating Permit Program. On June 25, 2001, the state of Kansas requested a revision to change the Class I Operating Permits annual emission inventory due date and to revise the annual emissions fee. Approval of these revisions will ensure consistency between the state and Federally-approved rules.

DATES: Comments on this proposed action must be received in writing by September 5, 2003.

ADDRESSES: Comments may be submitted either by mail or electronically. Written comments should be mailed to Heather Hamilton, Environmental Protection Agency, Air Planning and Development Branch, 901 North 5th Street, Kansas City, Kansas 66101. Electronic comments should be sent either to Heather Hamilton at hamilton.heather@epa.gov or to http://www.regulations.gov, which is an alternative method for submitting electronic comments to EPA. To submit comments, please follow the detailed instructions described in “What action is EPA taking” in the SUPPLEMENTARY INFORMATION section of the direct final rule which is located in the rules section of the Federal Register.

FOR FURTHER INFORMATION CONTACT: Heather Hamilton at (913) 551-7039, or by e-mail at hamilton.heather@epa.gov.

SUPPLEMENTARY INFORMATION: In the final rules section of the Federal Register, EPA is approving the state's operating permits program revisions as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. See the information provided in the direct final rule which is located in the rules section of the Federal Register.

Dated: July 28, 2003.
William Rice,
Acting Regional Administrator, Region 7.

[FR Doc. 03-20037 Filed 8-5-03; 8:45 am]

BILLING CODE 6560-50-P